DEPARTMENT OF DEFENSE

GENERAL SERVICES ADMINISTRATION

NATIONAL AERONAUTICS AND SPACE ADMINISTRATION

48 CFR Parts 19 and 52

[FAC 2001-15; Item VIII]

Federal Acquisition Regulation; Technical Amendments

AGENCIES: Department of Defense (DoD), General Services Administration (GSA), and National Aeronautics and Space Administration (NASA).

ACTION: Final rule.

SUMMARY: This document makes amendments to the Federal Acquisition Regulation (FAR) in order to update references and make editorial changes.

DATES: Effective Date: July 24, 2003.

FOR FURTHER INFORMATION CONTACT: The FAR Secretariat, Room 4035, GS Building, Washington, DC, 20405, (202) 501-4755, for information pertaining to status or publication schedules. Please cite FAC 2001-15, Technical Amendments.

List of Subjects in 48 CFR Parts 19 and 52

Government procurement.

Dated: July 16, 2003.
Laura Auletta,
Director, Acquisition Policy Division.

Therefore, DoD, GSA, and NASA amend 48 CFR parts 19 and 52 as set forth below:

1. The authority citation for 48 CFR parts 19 and 52 is revised to read as follows:

Authority: 40 U.S.C. 121(c); 10 U.S.C. chapter 137; and 42 U.S.C. 2473(c).

PART 19—SMALL BUSINESS PROGRAMS

2. Amend section 19.1005 by revising paragraph (a) to read as follows:

19.1005 Applicability.

(a) Designated industry groups.

NAICS code | NAICS description
1. Construction (Except Dredging) Subsector 236—Construction of Buildings
236115 | New Single-Family Housing Construction (except Operative Builders).
236116 | New Multi-Family Housing Construction (except Operative Builders).
236117 | New Housing Operative Builders.
236118 | Residential Remodelers.
236210 | Industrial Building Construction.
236220 | Commercial and Institutional Building Construction.
Subsector 237—Heavy and Civil Engineering Construction
237110 | Water and Sewer Line and Related Structures Construction.
237120 | Oil and Gas Pipeline and Related Structures Construction.
237130 | Power and Communication Line and Related Structures Construction.
237210 | Land Subdivision.
237310 | Highway, Street, and Bridge Construction.
237990 | Other Heavy and Civil Engineering Construction (except dredging).
Subsector 238—Specialty Trade Contractors
238110 | Poured Concrete Foundation and Structure Contractors.
238120 | Structural Steel and Precast Concrete Contractors.
238130 | Framing Contractors.
238140 | Masonry Contractors.
238150 | Glass and Glazing Contractors.
238160 | Roofing Contractors.
238170 | Siding Contractors.
238190 | Other Foundation, Structure, and Building Exterior Contractors.
238210 | Electrical Contractors.
238220 | Plumbing, Heating, and Air-Conditioning Contractors.
238290 | Other Building Equipment Contractors.
238310 | Drywall and Insulation Contractors.
238320 | Painting and Wall Covering Contractors.
238330 | Flooring Contractors.
238340 | Tile and Terrazzo Contractors.
238350 | Finish Carpentry Contractors.
238390 | Other Building Finishing Contractors.
238910 | Site Preparation Contractors.
238990 | All Other Specialty Trade Contractors.
2. Non-Nuclear Ship Repair
336611 | Ship Building and Repairing.
PSC J998 | Non-nuclear Ship Repair (East) Ship Repair (including overhauls and conversions) performed on non-nuclear propelled and nonpropelled ships east of the 108th meridian.
PSC J999 | Non-nuclear Ship Repair (West) Ship Repair (including overhauls and conversions) performed on non-nuclear propelled and nonpropelled ships west of the 108th meridian.
3. Architectural and Engineering Services (Including Surveying and Mapping)
541310 | Architectural Services or;
541330 | Engineering Services.
PSC C111 | Administrative and Service Buildings.
PSC C112 | Airfield, Communication and Missile Facilities.
PSC C113 | Educational Buildings.
PSC C114 | Hospital Buildings.
PSC C115 | Industrial Buildings.
PSC C116 | Residential Buildings.
PSC C117 | Warehouse Buildings.
PSC C118 | Research and Development Facilities.
PSC C119 | Other Buildings.
PSC C121 | Conservation and Development.
PSC C122 | Highways, Roads, Streets, Bridges and Railways.
PSC C123 | Electric Power Generation (EPG).
PSC C124 | Utilities.
PSC C129 | Other Non-Building Structures.
PSC C130 | Restoration.
PSC C211 | Architect-Engineering Services (including landscaping, interior layout, and designing).
PSC C212 | Engineering Drafting Services.
PSC C213 | A&E Inspection Services (non-construction).
PSC C214 | A&E Management Engineering Services.
PSC C215 | A&E Production Engineering Services (including Design and Control, and Building Programming).
PSC C216 | Marine Architect and Engineering Services.
PSC C219 | Other Architect and Engineering Services.
541360 | Geophysical Surveying and Mapping Services or;
541370 | Surveying and Mapping (except Geophysical) Services.
PSC T002 | Cartography Services.
PSC T004 | Charting Services.
PSC T008 | Photogrammetry Services.
PSC T009 | Aerial Photographic Services.
PSC T014 | Topography Services.
PSC R404 | Land Surveys, Cadastral Services (non-construction).
4. Refuse Systems and Related Services
562111 | Solid Waste Collection or;
562119 | Other Waste Collection or;
562219 | Other Nonhazardous Waste Treatment and Disposal.
PSC S205 | Trash/Garbage Collection Services—including Portable Sanitation Services.

* * * * *

PART 52—SOLICITATION PROVISIONS AND CONTRACT CLAUSES

3. Amend section 52.212-1 by revising the date of the provision and paragraph (i)(2)(ii)(B) to read as follows:

52.212-1 Instructions to Offerors-Commercial Items.

Instructions to Offerors—Commercial Items (July 2003)

* * * * *

(i) * * *

(2) * * *

(ii) * * *

(B) Through the DoDSSP Internet site at http://dodssp.daps.mil.

* * * * *

[FR Doc. 03-18540 Filed 7-23-03; 8:45 am]

BILLING CODE 6820-EP-P